ENVIRONMENTAL PROTECTION AGENCY

[EPA-HQ-OECA-2018-0130; FRL-9984-94-OEI]

Information Collection Request Submitted to OMB for Review and Approval; Comment Request; NESHAP for Hazardous Waste Combustors (Renewal)

AGENCY: Environmental Protection Agency (EPA).

ACTION: Notice.

SUMMARY: The Environmental Protection Agency (EPA) has submitted an information collection request (ICR), NESHAP for Hazardous Waste Combustors (EPA ICR Number 1773.12, OMB Control Number 2050-0171), to the Office of Management and Budget (OMB) for review and approval in accordance with the Paperwork Reduction Act. This is a proposed extension of the ICR, which is currently approved through October 31, 2018. Public comments were previously requested via the Federal Register on July 3, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before November 13, 2018.

ADDRESSES: Submit your comments, referencing Docket ID Number EPA-HQ-OECA-2018-0130, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW, Washington, DC. The telephone number for the Docket Center is 202-566-1744. For additional information about EPA's public docket, visit: http://www.epa.gov/dockets.

Abstract: The National Emission Standards for Hazardous Air Pollutants (NESHAP) for Hazardous Waste Combustors (40 CFR part 63, subpart EEE) apply to the following types of new and existing combustion units that burn hazardous waste: Incinerators, cement kilns, lightweight aggregate kilns, solid fuel boilers, liquid fuel boilers, and hydrochloric acid production facilities. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Owners and operators of hazardous waste combustors.

Respondent's obligation to respond: Mandatory (40 CFR part 63, subpart EEE).

Estimated number of respondents: 180 (total).

Frequency of response: Initially, occasionally, semiannually, and quarterly.

Total estimated burden: 62,500 hours (per year). Burden is defined at 5 CFR 1320.3(b).

Total estimated cost: $9,560,000 (per year), which includes $2,890,000 in annualized capital/startup and/or operation & maintenance costs.

Changes in the Estimates: There is an adjustment decrease in the total estimated burden as currently identified in the OMB Inventory of Approved Burdens. This increase is not due to any program changes. The adjustment decrease in burden is due to a decrease in the number of respondents based on more accurate estimates of the number of existing and new respondents as provided by the Agency and industry consultations. The decrease in burden is also a result of the removal of burden items related to requirements that are not associated with the standard, testing and installation activities that are not information collection activities, submittal of certain conditional or optional information that is not required by the rule, and one-time activities that have been completed. These changes are further discussed below. These changes also result in an adjustment decrease in the number of responses. The number of responses also reflects updates to clarify those responses related to reporting and that related to recordkeeping activities where reports are not submitted.

There is an adjustment increase in the total capital and O&M costs based on the revised estimates of the number of new respondents. As discussed below, because this ICR assumes one new HWC unit per year, we have included capital and O&M costs for CO and O2 CEMS, PM CEMS, COMs, and CMS. These items were not included in the previously approved ICR because it was assumed that existing sources had the equipment required to meet the standard already installed.

Courtney Kerwin,
Director, Regulatory Support Division.

[FR Doc. 2018-22067 Filed 10-10-18; 8:45 am]

BILLING CODE 6560-50-P